DEPARTMENT OF LABOR

Employment and Training Administration

[TA-W-39, 632 & NAFTA-5059; TA-W-39, 632A & NAFTA-5059A; TA-W-39, 632B & NAFTA-5059B; TA-W-39, 632C & NAFTA-5059C]

JPS Apparel Fabrics Corporation Greenville, SC; JPS Apparel Fabrics Corporation South Boston, VA; JPS Apparel Fabrics Corporation New York, NY; JPS Apparel Fabrics Corporation Laurens, SC: Notice of Affirmative Determination Regarding Application for Reconsideration

By letter of August 28, 2001, the company requested administrative reconsideration of the Department of Labor's Notices of Negative Determination Regarding Eligibility to Apply for Worker Adjustment Assistance JPS Apparel Fabrics Corporation, Greenville, South Carolina (TA-W-39, 632) including the following locations: South Boston, Virginia (TA-W-39, 632A); New York, New York (TA-W-39, 632B) and Laurens, South Carolina (TA-W-39, 632C) and NAFTA-Transitional Adjustment Assistance (NAFTA-5059 & (A-C) respectively) for workers of the subject firm. The denial notices applicable to workers of JPS Apparel Fabrics Corporation, were signed on August 21, 2001, and published in the Federal Register on September 11, 2001, TA-W-39, 632 (66 FR 47242) and NAFTA-5059 (66 FR 47243).

The company presents new information regarding the customer survey conducted by the Department of Labor. The company believes a major customer may be importing spun and filament greige woven apparel fabric, while decreasing their purchases from the subject plant during the relevant period.

Conclusion

After careful review of the application, I conclude that the claim is of sufficient weight to justify reconsideration of the Department of Labor's prior decision. The application is, therefor, granted.

Signed at Washington, DC, this 10th day of October, 2001.
Edward A. Tomchick,
Director, Division of, Trade Adjustment Assistance.

[FR Doc. 01-27244 Filed 10-29-01; 8:45 am]

BILLING CODE 4510-30-M